DEPARTMENT OF LABOR

Employment and Training Administration

[TA-W-65,865]

Seel Tool and Die, St. Marys, PA; Notice of Termination of Investigation

Pursuant to Section 221 of the Trade Act of 1974, as amended, an investigation was initiated on April 29, 2009, in response to a petition filed on behalf of workers of Seel Tool and Die, St. Marys, Pennsylvania.

The petitioner has requested that the petition be withdrawn. Consequently, the investigation has been terminated.

Signed at Washington, DC, this 8th day of May 2009.
Elliott S. Kushner,
Certifying Officer, Division of Trade Adjustment Assistance.

[FR Doc. E9-13472 Filed 6-8-09; 8:45 am]

BILLING CODE 4510-FN-P